DEPARTMENT OF ENERGY

Federal Energy Regulatory Commission

[Docket No. EL18-19-000]

Notice of Institution of Section 206 Proceeding and Refund Effective Date; Southwest Power Pool, Inc.

On October 19, 2017, the Commission issued an order in Docket No. EL18-19-000, Southwest Power Pool, Inc., 161 FERC 61,062 (2017) (October 2017 Order), pursuant to section 206 of the Federal Power Act (FPA), 16 U.S.C. 824e (2012), instituting an investigation to examine the Southwest Power Pool, Inc. (SPP) Membership Agreement and any other Commission-jurisdictional SPP documents that must be revised to fully implement the refund commitment concerns identified in the Commission's July 21, 2016 order in Docket No. EL16-91-000 in Southwest Power Pool, Inc., 156 FERC 61,059 (2016). The October 2017 Order also consolidated Docket Nos. EL16-91-000 and EL18-19-000.

The refund effective date in Docket No. EL18-19-000, established pursuant to section 206(b) of the FPA, will be the date of publication of this notice in the Federal Register.

Any interested person desiring to be heard in Docket No. EL18-19-000 must file a notice of intervention or motion to intervene, as appropriate, with the Federal Energy Regulatory Commission, 888 First Street NE., Washington, DC 20426, in accordance with Rule 214 of the Commission's Rules of Practice and Procedure, 18 CFR 385.214, within 21 days of the date of issuance of the order.

Dated: October 19, 2017.
Kimberly D. Bose,
Secretary.

[FR Doc. 2017-23110 Filed 10-24-17; 8:45 am]

BILLING CODE 6717-01-P